DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners of any other persons showing a substantial interest in the subject matter of the investigations may request a public hearing, provided such request if filed in writing with the Director, Division of Trade Adjustment Assistance, at the address shown below, not later than July 1, 2002.

Interested persons are invited to submit written comments regarding the subject matter of the investigations to the Director, Division of Trade Adjustment Assistance, at the address shown below, not later than July 1, 2002.

The petitions filed in this case are available for inspection at the Office of the Director, Division of Trade Adjustment Assistance, Employment and Training Administration, U.S. Department of Labor, Room C-5311, 200 Constitution Avenue, NW., Washington, DC 20210.

Signed at Washington, DC this 13th day of May, 2002.
Edward A Tomchick,
Director, Division of Trade Adjustment Assistance.

Appendix

Petitions Instituted on 05/13/2002
TA-W | Subject Firm (petitioners) | Location | Date of petition | Product(s)
41,502 | Northrop Grumman (Comp) | Sacramento, CA | 04/23/2002 | Power Amplifiers, Channel Filters
41,503 | Kimble Glass Co (AFGW) | Vineland, NJ | 04/08/2002 | Beakers, Filter Flask
41,504 | U.S. Timber Co (Wrks) | Craigmont, ID | 04/22/2002 | Rough Timber
41,505 | Beacon Light Products (Comp) | Meridian, ID | 04/16/2002 | Beacon Lights
41,506 | Ampco Metal, Inc. (UAW) | Milwaukee, WI | 04/10/2002 | Bronze Safety Tools
41,507 | Atlas Copco (UE) | Holyoke, MA | 04/18/2002 | Air Compressors and Generators
41,508 | American Meter Co (IUE) | Erie, PA | 04/17/2002 | Gas Meters
41,509 | Agilent Technologies (Wrks) | Santa Rosa, CA | 04/19/2002 | Test Equipment and Products
41,510 | Chicago Bridge and Iron (BBF) | Provo, UT | 04/17/2002 | Storage Tanks
41,511 | BP Exploration (Alaska) (Comp) | Anchorage, AK | 04/16/2002 | Crude Oil
41,512 | Pillowtex Phenix City (Comp) | Phenix City, AL | 04/03/2002 | Bathroom Accessories
41,513 | Square D Co. (IBEW) | Oxford, OH | 04/29/2002 | Wireway Products
41,514 | Aladdin Industries, LLC (USWA) | Nashville, TN | 04/19/2002 | Insulated Cups, Mugs, and Bottles
41,515 | Stabilit Americas, Inc. (Wrks) | Moscow, TN | 04/22/2002 | Fiber Glass Reinforced Panels
41,516 | Washington Mould Co. (Wrks) | Washington, PA | 04/09/2002 | Repair of Steel Rolling Mills
41,517 | ADS Machinery Corp (Wrks) | Warren, OH | 04/18/2002 | Steel Finishing and Coating Machinery
41,518 | United Electric (Wrks) | Virginia, MN | 04/11/2002 | Wholesale Electrical Products
41,519 | Moll Industries (Wrks) | Morristown, TN | 12/06/2002 | Toothbrush Manufacturing
41,520 | United States Manufacturi (Wkrs) | Pasadena, CA | 04/04/2002 | Orthopedic Equipment
41,521 | Dekko Engineering (Comp) | Manitowoc, WI | 04/16/2002 | Wiring Harnesses
41,522 | John W. Hancock, Jr, Inc (Wrks) | Salem, VA | 03/13/2002 | Raw Steel, Industrial Rack Systems
41,523 | BRA-VOR Tool and Die (Comp) | Meadville, PA | 04/22/2002 | Carbide and Steele Die
41,524 | American Candy (Wrks) | Lebanon, TN | 08/27/2001 | Hard Candy
41,525 | Stanley Furniture Co (Wrks) | Stanleytown, VA | 04/12/2002 | Furniture
41,526 | Wabash Technologies (COMP) | Huntington, IN | 05/02/2002 | Actuator Coils
41,527 | BHP Copper (Comp) | Tucson, AZ | 01/31/2002 | Copper
41,528 | Toro Co. (The) Irrigation (Wkrs) | Riverside, CA | 04/16/2002 | Commerical & Residential Irrigation Prod
41,529 | Mexican Industries, Inc. (UAW) | Detroit, MI | 01/23/2002 | Airbags, and Automotive Interior
41,530 | Martin Color-FI (Comp) | Laurens, SC | 04/30/2002 | Spun Yarn
41,531 | Bath amd Dreufuss (Wrks) | Burbank, CA | 04/19/2002 | Kitchen and Bath Towels
41,532 | Seton Co., Leather Div. (Comp) | Saxton, PA | 05/02/2002 | Leather Pieces
41,533 | Stanley Works (IAMAW) | New Britain, CT | 10/19/2001 | Tape Rulers
41,534 | 3M Co. (PAIC) | St. Paul, MN | 04/22/2002 | Sandpaper/Mineral/& Misc Tape Products
41,535 | Sights Denim Systems (Comp) | Henderson, KY | 05/06/2002 | Denim Garments
41,536 | Solectron (Wrks) | Austin, TX | 03/21/2002 | Cisco Products
41,537 | AmeriSteel Corp (Comp) | Jackson, TN | 04/23/2002 | Zinc Oxide
41,538 | RBC Tyso Bearing (USWA) | Glasgow, KY | 04/17/2002 | Roller Bearing Components
41,539 | CECO Doors Products (Wrks) | Harlingen, TX | 04/22/2002 | Metal Doors and Frames
41,540 | Anvil International (Wrks) | Henderson, TN | 04/23/2002 | Pipe Hanger
41,541 | GD Resources, Inc. (Wrks) | Sparks, NV | 04/25/2002 | Gold/Silver Precious Metals
41,542 | Fashion Sportswear Corp (Wrks) | Fall River, MA | 04/05/2002 | Jacket Samples
41,543 | GE Transportation Systems (UE) | Erie, PA | 04/29/2002 | Diesel Electric Locomotive & Components
41,544 | Osprey Packs, Inc (Comp) | Cortez, CO | 03/25/2002 | Backpacks and daypacks
41,545 | Multi Products (Wkrs) | Erie, PA | 05/06/2002 | Custom Plastic Injection Molds
41,546 | Classic Knitting Mills (Co.) | Greensboro, NC | 05/06/2002 | Knit Fabric

[FR Doc. 02-15560 Filed 6-19-02; 8:45 am]

BILLING CODE 4510-30-M